DEPARTMENT OF AGRICULTURE

DEPARTMENT OF HEALTH AND HUMAN SERVICES

DEPARTMENT OF EDUCATION

Task Force on Childhood Obesity: Request for Information

AGENCY: U.S. Department of Agriculture, U.S. Department of Health and Human Services, U.S. Department of Education.

ACTION: Joint request for comments.

SUMMARY: Across the country, childhood obesity has reached epidemic rates. On February 9, 2010, President Obama signed a Presidential Memo establishing a Task Force on Childhood Obesity that directs Federal agencies to create a comprehensive interagency national action plan to solve the challenge of childhood obesity within a generation. The Presidential Memo directs the Task Force to focus on four pillars: Ensuring access to healthy, affordable food; increasing physical activity in schools and communities; providing healthier food in schools; and empowering parents with information and tools to make good choices for themselves and their families. This notice announces a request for public comments to assist the Task Force in making recommendations on public and private sector actions that can be taken to solve the problem.

DATES: To be assured of consideration, written comments must be submitted or postmarked on or before March 26, 2010.

ADDRESSES: Comments may be submitted through the Federal eRulemaking Portal at http://www.regulations.gov. Follow the online instructions for submitting comments. Comments may also be submitted by fax or by mail to: Director, Office of Executive Secretariat, U.S. Department of Agriculture, 1400 Independence Avenue, SW., Room 116-A Whitten Building, Washington, DC 20250 (FAX: 202-720-7166); however, respondents are strongly encouraged to submit comments through http://www.regulations.gov, as it will simplify the review of their input and help to ensure that it receives full consideration. All comments submitted in response to this notice will be included in the record and will be made available to the public. Please be advised that the substance of the comments and the identity of the individuals or entities submitting the comments will be subject to public disclosure. All comments will be made available publicly on the internet at http://www.regulations.gov.

FOR FURTHER INFORMATION CONTACT: Alexia Green, Office of the Executive Secretariat, United States Department of Agriculture, 202-720-1570.

SUPPLEMENTARY INFORMATION: Nearly one-third of children in America are overweight or obese—a rate that has tripled in adolescents and more than doubled in younger children since 1980. One-third of all individuals born in the year 2000 or later will eventually suffer from diabetes over the course of their lifetime, while too many others will face chronic obesity-related health problems such as heart disease, high blood pressure, cancer, and asthma. Without effective intervention, many more children will endure serious illnesses that will put a strain on our health-care system and reduce their quality of life.

President Obama has set a goal to solve the problem of childhood obesity within a generation so that children born today will reach adulthood at a healthy weight. To reach that goal, President Obama signed a Presidential Memorandum on February 9, 2010, establishing a Task Force on Childhood Obesity that directs Federal agencies to create a comprehensive interagency national action plan to solve the challenge of childhood obesity within a generation. The Task Force is chaired by the Assistant to the President for Domestic Policy and composed of senior Federal officials representing the White House, the Office of Management and Budget, and the Departments of Interior, Agriculture, Health and Human Services, and Education, as well as senior officials of other executive departments, agencies, or offices designated by the chair. The Presidential Memorandum directs the Task Force to make recommendations that include, but are not limited to, meeting four objectives: (1) Ensuring access to healthy, affordable food; (2) increasing physical activity in schools and communities; (3) providing healthier food in schools; and (4) empowering parents with information and tools to make good choices for themselves and their families.

The specific responsibilities of the Task Force are to:

1. Detail a coordinated strategy by executive departments and agencies to meet the objectives of the Task Force and identify areas for reform to ensure complementary efforts and avoid duplication, both across the Federal Government and between other public or nongovernmental actors;

2. Include comprehensive, multi-sectoral strategies from each member executive department, agency, or office and describe the status and scope of its efforts to achieve this goal;

3. Identify key benchmarks and provide for regular measurement, assessment, and reporting of executive branch efforts to combat childhood obesity;

4. Describe a coordinated action plan for identifying relevant evidence gaps and conducting or facilitating needed research to fill those gaps;

5. Assist in the assessment and development of legislative, budgetary, and policy proposals that can improve the health and well-being of children, their families, and communities; and

6. Describe potential areas of collaboration with other public or nongovernmental actors, taking into consideration the types of implementation or research objectives the Federal Government, other public actors, or nongovernmental actors may be particularly well-situated to accomplish.

In addition, the Presidential Memo directs the Task Force to conduct outreach with representatives of private and nonprofit organizations, State, tribal, and local authorities, and other interested persons who can assist with the Task Force's development of a detailed set of recommendations to solve the problem of childhood obesity. Consistent with the directives of the Presidential Memorandum, the Department of Agriculture, Department of Education, and Department of Health and Human Services are publishing this Request for Information on behalf of the Task Force to solicit comments and feedback to assist the Task Force in making recommendations on public and private sector actions that can be taken to solve the problem of childhood obesity. Through this notice, guidance is provided as to the matters to be discussed and the categories of information with respect to which interested parties may submit comments.

The work of the Task Force will complement the efforts of First Lady Michelle Obama as she leads a national public awareness effort to tackle the epidemic of childhood obesity. Through the First Lady's Let's Move initiative, she will encourage involvement from the public, nonprofit, and private sectors, as well as families to help support and amplify the work of the Federal Government in improving the health of the Nation's children. The campaign will give parents the information, motivation, and support they need to make sure that their children are healthy. It will help children be more physically active and allow them to make healthy food choices because healthy, affordable food will be available in every part of the country. For more information, please visit http://www.letsmove.gov/.

Matters To Be Considered: Information is being sought on the categories of information that follow. When submitting comments, interested parties are asked to restate the question and to provide any additional information deemed pertinent to their comment.

1. For each of the four objectives described above, what key topics should be addressed in the report?

2. For each of the four objectives, what are the most important actions that Federal, State, and local governments can take?

3. Which Federal government actions aimed at combating childhood obesity are especially in need of cross-agency coordination?

4. For each of the four objectives, what are the most important actions that private, nonprofit, and other nongovernmental actors can take?

5. For each of the four objectives, what strategies will ensure that efforts taken by all of the entities mentioned above reach across geographic areas and to diverse racial, ethnic, socioeconomic, and geographic groups, including children who are at highest risk of obesity and children with disabilities?

6. What goals should we set within each objective to ensure that we meet our overall goal of solving the problem of childhood obesity in this Nation in a generation?

7. What concrete, specific actionable recommendations or guidelines would help parents reduce the risk that their child will become overweight or obese and how can their effectiveness be measured?

8. What are the key benchmarks by which we should measure progress toward achieving those goals?

9. What important factors should be considered that do not easily fit under one of the four objectives?

10. What are the key unanswered research questions that need to be answered with regard to solving childhood obesity and how should the Federal Government, academia, and other research organizations target their scarce resources on these areas of research?

11. In areas or communities that currently have a high incidence of childhood obesity, what is the best explanation of why particular children do not become obese?

12. Specifically with regard to objective 1 (empowering parents): How can Federal, State, and local governments, the private sector, and community organizations best communicate information to help parents make healthy choices about food and physical activity?

13. Specifically with regard to objective 2 (healthier food in schools): What are the most promising steps that can be pursued by the Federal, State, and local governments, schools, communities, the private sector, and parents to ensure that children are eating healthy food in schools and child care settings?

14. Specifically with regard to objective 3 (access to healthy, affordable food): What are the biggest challenges to enhancing access to healthy and affordable food in communities across America, and what are the most promising strategies to overcome these challenges?

15. Specifically with regard to objective 4 (physical activity): What steps can be taken to improve quality physical education and expand opportunities for physical activity during the school day, in local communities and neighborhoods, and in outdoor activities and other recreational settings?

16. What other input should the Task Force consider in writing the report?

Dated: March 9, 2010.
Thomas J. Vilsack,
Secretary, U.S. Department of Agriculture.
Dated: March 9, 2010,
Kathleen Sebelius,
Secretary, U.S. Department of Health and Human Services.
Dated: March 9, 2010,
Arne Duncan,
Secretary, U.S. Department of Education.

[FR Doc. 2010-5719 Filed 3-15-10; 8:45 am]

BILLING CODE 3410-30-P